DEPARTMENT OF ENERGY

Federal Energy Regualtory Commission

[Docket Nos. RM05-2-000]

Policy for Selective Discounting by Natural Gas Pipelines; Notice of Extension of Time

January 25, 2005.

On January 21, 2005, the Interstate Natural Gas Association of America (INGAA) filed a motion for an extension of time to file comments in response to the Commission's Notice of Inquiry (NOI) issued November 22, 2004, in the above-docketed proceeding. 109 FERC ¶ 61,202. INGAA states that additional time is needed because of the broad scope of the Commission's inquiry in this proceeding and because preparation of a response will require significant input from gas industry members. INGAA also states that an extension is needed due the press of Commission deadlines in other natural gas industry proceedings. INGAA finally states that the American Gas Association, American Public Gas Association, Independent Petroleum Association of America, Illinois Municipal Gas Association, Natural Gas Supply Association and Process Gas Consumers either support or do not oppose the request for additional time.

Upon consideration, notice is hereby given that an extension of time for filing comments on the NOI is granted to and including March 2, 2005.

Magalie R. Salas,
Secretary.

[FR Doc. E5-379 Filed 2-1-05; 8:45 am]

BILLING CODE 6717-01-P